DEPARTMENT OF ENERGY

Federal Energy Regulatory Commission

Combined Notice of Filings #2

Take notice that the Commission received the following exempt wholesale generator filings:

Docket Numbers: EG16-39-000.

Applicants: Bethel Wind Farm LLC.

Description: Notice of Self-Certification of Exempt Wholesale Generator Status of Bethel Wind Farm LLC.

Filed Date: 1/20/16.

Accession Number: 20160120-5083.

Comments Due: 5 p.m. ET 2/10/16.

Docket Numbers: EG16-40-000.

Applicants: Tenaska Pennsylvania Partners, LLC.

Description: Notice of Self-Certification of Exempt Wholesale Generator Status of Tenaska Pennsylvania Partners, LLC.

Filed Date: 1/19/16.

Accession Number: 20160119-5422.

Comments Due: 5 p.m. ET 2/9/16.

Take notice that the Commission received the following electric rate filings:

Docket Numbers: ER10-2331-052; ER14-630-027; ER10-2319-043; ER10-2317-043; ER13-1351-025; ER10-2330-050.

Applicants: J.P. Morgan Ventures Energy Corporation, AlphaGen Power LLC, BE Alabama LLC, BE CA LLC, Florida Power Development LLC, Utility Contract Funding, L.L.C.

Description: Non-Material Change in Status of the J.P. Morgan Sellers.

Filed Date: 1/19/16.

Accession Number: 20160119-5414.

Comments Due: 5 p.m. ET 2/9/16.

Docket Numbers: ER12-1436-010; ER14-152-005; ER14-153-005; ER14-154-005; ER13-1793-007; ER10-3300-010; ER13-2386-006; ER10-3099-016; ER10-2740-009; ER10-3143-017; ER10-2742-008; ER12-1260-009; ER10-2329-007.

Applicants: Eagle Point Power Generation LLC, Elgin Energy Center, LLC, Gibson City Energy Center, LLC, Grand Tower Energy Center, LLC, Hazle Spindle, LLC, La Paloma Generating Company, LLC, Lakeswind Power Partners, LLC, RC Cape May Holdings, LLC, Rocky Road Power, LLC, Sabine Cogen, LP, Tilton Energy LLC, Stephentown Spindle, LLC, Vineland Energy LLC

Description: Notice of Change in Status of the Rockland Sellers.

Filed Date: 1/19/16.

Accession Number: 20160119-5412.

Comments Due: 5 p.m. ET 2/9/16.

Docket Numbers: ER15-1873-004.

Applicants: Buckeye Wind Energy LLC.

Description: Notification of Change in Facts Under Market-Based Rate Authority of Buckeye Wind Energy LLC.

Filed Date: 1/19/16.

Accession Number: 20160119-5405.

Comments Due: 5 p.m. ET 2/9/16.

Docket Numbers: ER15-2620-002.

Applicants: Little Elk Wind Project, LLC.

Description: Compliance filing: Little Elk Wind Project, LLC MBR Tariff to be effective 10/1/2015.

Filed Date: 1/20/16.

Accession Number: 20160120-5130.

Comments Due: 5 p.m. ET 2/10/16.

Docket Numbers: ER16-165-001.

Applicants: Southwest Power Pool, Inc.

Description: Compliance filing: Compliance Filing in ER16-165—Revisions to Clarify Treatment of PTP Revenues to be effective 1/1/2016.

Filed Date: 1/20/16.

Accession Number: 20160120-5054.

Comments Due: 5 p.m. ET 2/10/16.

Docket Numbers: ER16-518-001.

Applicants: Central Maine Power Company.

Description: Tariff Amendment: Amendment to Executed Interconnection Agreement Hackett Mills Hydro Associates to be effective 1/1/2016.

Filed Date: 1/20/16.

Accession Number: 20160120-5094.

Comments Due: 5 p.m. ET 2/10/16.

Docket Numbers: ER16-750-000.

Applicants: Bethel Wind Farm LLC.

Description: Baseline eTariff Filing: Application for Market-Based Rate Authorization to be effective 3/21/2016.

Filed Date: 1/20/16.

Accession Number: 20160120-5077.

Comments Due: 5 p.m. ET 2/10/16.

Docket Numbers: ER16-750-001.

Applicants: Bethel Wind Farm LLC.

Description: Tariff Amendment: Supplement to Application for Market-Based Rate Authorization to be effective 3/21/2016.

Filed Date: 1/20/16.

Accession Number: 20160120-5088.

Comments Due: 5 p.m. ET 2/10/16.

Docket Numbers: ER16-751-000.

Applicants: PJM Interconnection, L.L.C.

Description: Section 205(d) Rate Filing: Service Agreement No. 4395; Queue No. AA1-092 to be effective 12/21/2015.

Filed Date: 1/20/16.

Accession Number: 20160120-5120.

Comments Due: 5 p.m. ET 2/10/16.

Docket Numbers: ER16-752-000.

Applicants: Carousel Wind Farm, LLC.

Description: Section 205(d) Rate Filing: Carousel Wind Farm, LLC Notice of Non-Material Change in Status to be effective 10/31/2015.

Filed Date: 1/20/16.

Accession Number: 20160120-5131.

Comments Due: 5 p.m. ET 2/10/16.

Docket Numbers: ER16-753-000.

Applicants: PJM Interconnection, L.L.C.

Description: Section 205(d) Rate Filing: Second Revised Service Agreement No. 2962; Queue Position W4-016 to be effective 12/21/2015.

Filed Date: 1/20/16.

Accession Number: 20160120-5136.

Comments Due: 5 p.m. ET 2/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 20, 2016.
Nathaniel J. Davis, Sr.,
Deputy Secretary.

[FR Doc. 2016-01463 Filed 1-25-16; 8:45 am]

BILLING CODE 6717-01-P